DEPARTMENT OF LABOR

Employment and Training Administration

[TA-W-72,971]

ASC Machine Tools, Inc., Spokane Valley, WA; Notice of Negative Determination on Reconsideration

On October 7, 2010, the Department of Labor issued an Affirmative Determination Regarding Application for Reconsideration for the workers and former workers of ASC Machine Tools, Inc., Spokane Valley, Washington (the subject firm). The Department's Notice was published in the Federal Register on October 25, 2010 (75 FR 65516). The workers produce custom-order metal cutting machinery used to form and cut metal, including assembled equipment, component parts of equipment, and spare parts. Workers are not separately identifiable by article produced.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the finding that the subject firm sales decline was due to loss of export sales of foreign customers' bids to competitors outside the United States. The initial investigation also revealed decreased aggregate imports of metal cutting equipment during the relevant period, and that the subject firm is not a supplier or downstream producer for any firm that employed a worker group eligible to apply for Trade Adjustment Assistance (TAA).

The International Association of Machinists and Aerospace Workers, District Lodge 751, in the request for reconsideration, alleges increased imports from Sen Fung Rollform Machinery Corporation in Taiwan and Metform International in Canada. The request for reconsideration also articulates the concern that “the affected workers are being penalized due to the inconsistent customer base of the company” and requests that aggregate import data during 2007 and 2008 be considered.

During the reconsideration investigation, the Department received information that confirmed that Sen Fung Rollform Machinery Corporation in Taiwan and Metform International in Canada are competitors of the subject firm and not customers, as inferred in the request for reconsideration. As such, the Department did not conduct a bid survey in regard to the aforementioned companies.

In regard to the request that aggregate import data be considered for 2007 and 2008, the Department can not consider data for this period because it is outside of the relevant period under investigation.

29 CFR 90.2 states that increased imports means that imports have increased either absolutely or relative to domestic production compared to a representative base period. The representative base period shall be one year consisting of the four quarters immediately preceding the date which is twelve months prior to the date of the petition.

Conclusion

After reconsideration, I affirm the original notice of negative determination of eligibility to apply for worker adjustment assistance for workers and former workers of ASC Machine Tools, Inc., Spokane Valley, Washington.

Signed in Washington, DC, on this 2nd day of May, 2011.
Del Min Amy Chen,
Certifying Officer, Office of Trade Adjustment Assistance.

[FR Doc. 2011-11639 Filed 5-11-11; 8:45 am]

BILLING CODE 4510-FN-P